DEPARTMENT OF HEALTH AND HUMAN SERVICES

Food and Drug Administration

[Docket No. FDA-2009-N-0383]

Request for Notification From Industry Organizations Interested in Participating in the Selection Process for a Nonvoting Industry Representative on the Tobacco Products Scientific Advisory Committee and Request for Nominations for Nonvoting Industry Representatives on the Tobacco Products Scientific Advisory Committee; Amendment of Notice

AGENCY: Food and Drug Administration, HHS.

ACTION: Notice.

The Food and Drug Administration (FDA) is announcing an amendment to the notice of the Request for Notification From Industry Organizations Interested in Participating in the Selection Process for a Nonvoting Industry Representative on the Tobacco Products Scientific Advisory Committee and Request for Nominations for Nonvoting Industry Representatives on the Tobacco Products Scientific Advisory Committee. This meeting was announced in the Federal Register of August 26, 2009 (74 FR 43140). The amendment is being made to reflect changes in the DATES, ADDRESSES, and Selection Procedure portions of the document. There are no other changes.

FOR FURTHER INFORMATION CONTACT: Teresa L. Hays, Food and Drug Administration, Center for Tobacco Products, 9200 Corporate Blvd., Rockville, MD 20850-3229, 301-796-3369, FAX: 301-595-7946, e-mail: Teresa.Hays@fda.hhs.gov.

SUPPLEMENTARY INFORMATION: In the Federal Register of August 26, 2009, FDA announced a Request for Notification From Industry Organizations Interested in Participating in the Selection Process for a Nonvoting Industry Representative on the Tobacco Products Scientific Advisory Committee and Request for Nominations for a Nonvoting Industry Representatives on the Tobacco Products Scientific Advisory Committee of the Tobacco Products Scientific Advisory Committee.

On page 43140, in the third column, the DATES portion of the document is changed to read as follows:

DATES: Any industry organization interested in participating in the selection of an appropriate nonvoting member to represent industry interests must send a letter stating the interest to FDA by October 26, 2009, for vacancies listed in the notice. Concurrently, nomination material for prospective candidates should be sent to the FDA by October 26, 2009.

On page 43140, in the first column, the ADDRESSES portion of the document is changed to read as follows:

ADDRESSES: All nominations for membership should be sent to Teresa L. Hays, Food and Drug Administration, Center for Tobacco Products, 9200 Corporate Blvd., Rockville, MD 20850-3229, 301-796-3699, FAX: 301-595-7946, e-mail: Teresa.Hays@fda.hhs.gov.

On page 43141, beginning in the first column, the text in the II. Selection Procedure portion of the document is changed to read as follows:

Selection Procedure

Any industry organization interested in participating in the selection of an appropriate nonvoting member to represent industry interests should send a letter stating that interest to the FDA contact (see ADDRESSES) within 30 days of publication of this document. Within the subsequent 30 days, FDA will send a letter to each organization that has expressed an interest, attaching a complete list of all such organizations; and a list of all nominees along with their current resumes. The letter will also state that it is the responsibility of the interested organizations to confer with one another and to select a candidate, within 60 days after the receipt of the FDA letter, to serve as the nonvoting member to represent industry interests for the Tobacco Products Scientific Advisory Committee. The interested organizations are not bound by the list of nominees in selecting a candidate. However, if no individual is selected within 60 days, the Commissioner of Food and Drugs will select the nonvoting member to represent industry interests.

This notice is issued under the Federal Advisory Committee Act (5 U.S.C. app. 2) and 21 CFR part 14, relating to the advisory committees.

Dated: September 18, 2009.
David Horowitz,
Assistant Commissioner for Policy.

[FR Doc. E9-23009 Filed 9-23-09; 8:45 am]

BILLING CODE 4160-01-S